DEPARTMENT OF HEALTH AND HUMAN SERVICES

Health Resources and Services Administration

Centers for Disease Control and Prevention (CDC)/Health Resources and Services Administration (HRSA) Advisory Committee on HIV, Viral Hepatitis and Sexually Transmitted Diseases (STD) Prevention and Treatment; Notice of Meeting

In accordance with section 10(a)(2) of the Federal Advisory Committee Act (Pub. L. 92-463), notice is hereby given of the following meeting:

Name: CDC/HRSA Advisory Committee on HIV, Viral Hepatitis and STD Prevention and Treatment (CHACHSPT)

Date and Time: February 3, 2016, 3:00 p.m.-4:00 p.m. (EST)

Place: This meeting is accessible via audio conference call.

Status: This meeting is open to the public. The virtual meeting is available via teleconference line and will accommodate approximately 100 people. Join the meeting by calling the toll free phone number at 1-800-369-3340 and providing the public participant passcode number: 4318075. Participants should call and connect 15 minutes prior to the meeting in order for logistics to be set up. Call 301-443-9684 or send an email to sgordon@hrsa.gov with questions. Individuals who plan to attend and need special assistance, such as sign language interpretation or other reasonable accommodations, should notify the contact person listed below at least 10 days prior to the meeting.

Purpose: This Committee is charged with advising the Director, CDC, and the Administrator, HRSA, regarding activities related to prevention and control of HIV/AIDS, Viral Hepatitis and other STDs, the support of health care services to persons living with HIV/AIDS, and education of health professionals and the public about HIV/AIDS, Viral Hepatitis and other STDs.

Agenda: Agenda includes a discussion and vote on the “Resolution relative to increasing federal funding for innovative HIV, STD, and viral hepatitis prevention and care programs in the context of continued Affordable Care Act implementation.” Agenda items are subject to change as priorities dictate.

FOR FURTHER INFORMATION CONTACT: Shelley B. Gordon, Senior Public Health Analyst, Health Resources and Services Administration, HIV/AIDS Bureau, Division of Policy and Data, 5600 Fishers Lane, Room 09N154, Rockville, Maryland 20857, Telephone: 301-443-9684, Fax: 301-443-3343, and/or email: sgordon@hrsa.gov.

Jackie Painter,
Director, Division of the Executive Secretariat.

[FR Doc. 2016-00370 Filed 1-11-16; 8:45 am]

BILLING CODE 4165-15-P